DEPARTMENT OF ENERGY

Federal Energy Regulatory Commission

[Docket No. EL00-34-000]

ExxonMobil Chemical Company and ExxonMobil Refining & Supply Company v. Entergy Gulf States, Inc.; Notice of Complaint

January 14, 2000.

Take notice that on January 13, 2000, ExxonMobil Chemical Company and ExxonMobil Refining & Supply Company (together ExxonMobil) submitted for filing a complaint against Entergy Gulf States, Inc. (Entergy) for interpreting its Open Access Transmission Tariff (OATT) inconsistently with Order No. 888 and to the disadvantage of a qualifying cogeneration facility (QF) in contravention of the Public Utility Regulatory Policies Act of 1978, as amended. ExxonMobil requests that the Commission order Entergy to interpret its OATT consistent with Order No. 888 and consider all substations through which ExxonMobil's QF power is received to be a single point of receipt on Entergy's system.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before February 2, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before February 2, 2000.

Linwood A. Watson, Jr.,
Acting Secretary.

[FR Doc. 00-1433 Filed 1-20-00; 8:45 am]

BILLING CODE 6717-01-M